DEPARTMENT OF THE TREASURY

Submission for OMB Review; Comment Request

February 22, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before March 29, 2010 to be assured of consideration.

Internal Revenue Service (IRS)

OMB Number: 1545-0135.

Type of Review: Extension without change of a currently approved collection.

Title: Extension of Time for Payment of Taxes by a Corporation Expecting a New Operating Loss Carryback.

Form: 1138.

Description: Form 1138 is filed by corporations to request an extension of time to pay their income taxes, including estimated taxes. Corporations may only file for an extension when they expect a net operating loss carryback in the tax year and want to delay the payment of taxes from a prior tax year.

Respondents: Private sector: Businesses or other for-profits.

Estimated Total Burden Hours: 9,800 hours.

OMB Number: 1545-2151

Type of Review: Extension without change of a currently approved collection.

Title: Qualifying Advanced Energy Project Credit.

Notice Number: 2009-72.

Description: This notice establishes the qualifying advanced energy project program (“advanced energy program”) under § 48C(d) of the Internal Revenue Code and announces an initial allocation round of the qualifying advanced energy project credit (“advanced energy credit”) to qualifying advanced energy projects under the advanced energy program. A qualifying advanced energy project re-equips, expands, or establishes a manufacturing facility for the production of certain energy related property. A taxpayer must submit, for each qualifying advanced energy project: (1) An application for certification by the DOE (“application for DOE certification”), and (2) an application for certification under § 48C(d)(2) by the Service (“application for § 48C certification”). Both applications may be submitted only during the 2-year period beginning on August 14, 2009. Certifications will be issued and credits will be allocated to projects in annual allocation rounds. The initial allocation round will be conducted in 2009-10, and If necessary, additional allocation round in 2010-11.

Respondents: Private sector: Businesses or other for-profits.

Estimated Total Burden Hours: 110,000 hours.

OMB Number: 1545-2152.

Type of Review: Extension without change of a currently approved collection.

Title: Health Coverage Tax Credit (HCTC) Reimbursement Request Form.

Description: This form will be used by HCTC participants to request reimbursement for health plan premiums paid prior to the commencement of advance payments.

Respondents: Individuals or households.

Estimated Total Burden Hours: 2,039 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-3880 Filed 2-24-10; 8:45 am]

BILLING CODE 4810-01-P